DEPARTMENT OF HEALTH AND HUMAN SERVICES

National Institutes of Health

Center for Scientific Review; Amended Notice of Meeting

Notice is hereby given of a change in the meeting of the Center for Scientific Review Special Emphasis Panel, April 27, 2005, 1 p.m. to April 27, 2005, 2 p.m., National Institutes of Health, 6701 Rockledge Drive, Bethesda, MD, 20892 which was published in the Federal Register on April 7, 2005, 70 FR 17711.

The meeting will be held April 28, 2005. The meeting time and location remain the same. The meeting is closed to the public.

Dated: April 12, 2005.
LaVerne Y. Stringfield,
Director, Office of Federal Advisory Committee Policy.

[FR Doc. 05-7856 Filed 4-19-05; 8:45 am]

BILLING CODE 4140-01-M